DEPARTMENT OF COMMERCE

National Oceanic and Atmospheric Administration

[RTID 0648-XE329]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of the Snapper Grouper Advisory Panel (AP) October 15-17, 2024 in Charleston, SC.

DATES: The Snapper Grouper AP will meet on Tuesday, October 15, 2024, from 1 p.m. until 5 p.m.; Wednesday, October 16, 2024, from 8:30 a.m. until 5 p.m.; and Thursday, October 17, 2024, from 8:30 a.m. until 12 p.m.

ADDRESSES:

Meeting address: Town & Country Inn and Suites, 2008 Savannah Highway, Charleston, SC 29407; telephone: (843) 334-6660.

FOR FURTHER INFORMATION CONTACT: Kim Iverson, Public Information Officer, SAFMC; phone: (843) 571-4366 or toll free: (866) SAFMC-10; fax: (843) 769-4520; email: kim.iverson@safmc.net.

SUPPLEMENTARY INFORMATION: Meeting information, including the agenda, overview, briefing book materials, and an online public comment form will be posted on the Council's website at: https://safmc.net/advisory-panel-meetings/ two weeks prior to the meeting. The meeting is open to the public and available via webinar as it occurs. The webinar registration link will be available from the Council's website. Public comment will also be taken during the meeting.

The agenda for the Snapper Grouper AP meeting includes: development of a Fishery Performance Report (FPR) for red snapper and an update to the Yellowtail Snapper FPR; discussion of Acceptable Biological Catch Control Rule risk scoring for golden tilefish, blueline tilefish, mutton snapper, red snapper, and yellowtail snapper; and an update and discussion about the snapper grouper management strategy evaluation.

The AP will receive a presentation of the latest Southeast Reef Fish Survey data; provide input on planning for 2025 stakeholder engagement meetings; and discuss expected fishery behavioural responses to potential management changes being considered for the black sea bass fishery (Snapper Grouper Amendment 56). The AP will also receive updates on development of Amendment 46 addressing private recreational permitting and education, the Southeast For-Hire Integrated Electronic Reporting program, and other Council programs and initiatives. The AP will provide input and recommendations on agenda items for the Council's consideration and address other items as needed.

Special Accommodations

The meeting is physically accessible to people with disabilities. Requests for auxiliary aids should be directed to the Council office (see ADDRESSES) 3 days prior to the meeting.

Note: The times and sequence specified in this agenda are subject to change.

Authority: 16 U.S.C. 1801 et seq.

Dated: September 24, 2024.
Rey Israel Marquez,
Acting Deputy Director, Office of Sustainable Fisheries, National Marine Fisheries Service.

[FR Doc. 2024-22196 Filed 9-26-24; 8:45 am]

BILLING CODE 3510-22-P